DEPARTMENT OF ENERGY

Federal Energy Regulatory Commission

[Docket Nos: AF21-6-000; AD20-6-000]

RTO/ISO Credit Principles and Practices, Credit Reforms in Organized Wholesale Electric Markets; Supplemental Notice of Technical Conference

As first announced in the Notice of Technical Conference issued in this proceeding on November 4, 2020, the Federal Energy Regulatory Commission (Commission) will convene a staff-led technical conference in the above referenced proceeding on Thursday, February 25, 2021 from 9:00 a.m. to 5:00 p.m. and Friday, February 26, 2021 from 9:00 a.m. to 1:00 p.m. Eastern Time. The conference will be held electronically and broadcast on the Commission's website. Commissioners may attend and participate. This conference will discuss principles and best practices for credit risk management in organized wholesale electric markets.

We note that discussions at the conference may involve issues raised in proceedings that are currently pending before the Commission. These proceedings include, but are not limited to: DC Energy, LLC v. PJM Interconnection, L.L.C., Docket No. EL18-170; Shell Energy North America (US), L.P., Docket No. EL20-49; PJM Interconnection, L.L.C., Docket No. ER21-520; ISO New England Inc., New England Power Pool Participants Committee, Docket No. ER21-816; Midcontinent Independent System Operator, Inc., Docket No. ER21-920; PJM Interconnection, L.L.C., Docket No. ER21-972; Southwest Power Pool, Inc., ER21-1185; Southwest Power Pool, Inc., ER21-1193.

Attached to this Supplemental Notice is an agenda for the technical conference, which includes the final conference program and speakers. The conference will be open for the public to attend. Registration for the conference is not required, however members of the public may preregister online at: https://ferc.webex.com/ferc/onstage/g.php?MTID=e2b36f2a0411532188b8cd973144668ff. Anyone who registers by Monday, February 22, 2021 will be given instructions on how to access the event. Information on the technical conference will also be posted on the Calendar of Events on the Commission's website, http://www.ferc.gov, prior to the event. The conference will be transcribed. Transcripts of the conference will be available for a fee from Ace-Federal Reporters, Inc. (202-347-3700).

For more information about this technical conference, please contact: Michael Hill (Technical Information), Office of Energy Policy and Innovation, (202) 502-8703, Michael.Hill@ferc.gov; Sarah McKinley (Logistical Information), Office of External Affairs, (202) 502-8004 Sarah.Mckinley@ferc.gov.

Dated: February 24, 2021.
Kimberly D. Bose,
Secretary.

[FR Doc. 2021-04261 Filed 3-1-21; 8:45 am]

BILLING CODE 6717-01-P